DEPARTMENT OF TRANSPORTATION

Federal Railroad Administration

[Docket Number FRA-2015-0003]

Petition for Waiver of Compliance

In accordance with Part 211 of Title 49 Code of Federal Regulations (CFR), this document provides the public notice that by a document dated January 6, 2015, Union Pacific Railroad (UP) has petitioned the Federal Railroad Administration (FRA) for a waiver of compliance from certain provisions of the Federal railroad safety regulations contained at 49 CFR part 213, Track Safety Standards. FRA assigned the petition Docket Number FRA-2015-0003.

Pursuant to 49 CFR 213.113(a), UP requests a waiver from the accepted practice of stop/start rail testing to start a pilot test process for nonstop continuous testing. The projected starting date for implementing the test process would be June 1, 2015, and the test process would continue for a period of 2 years. The test process would occur on two separate locations within the UP system: the Marysville Subdivision main tracks between Gibbon Junction, NE., and Marysville, KS, and the Baird Subdivision main tracks between Fort Worth and Sweetwater, TX.

For this pilot test, the process would be similar to the waivers granted to CSX Transportation in Docket Number FRA-2011-0107 and the Illinois Central Railroad as prescribed in Docket Number FRA-2014-0029. UP would not have parallel or redundant stop/start testing on the segments being tested in a nonstop process. UP would produce a progress report on a bimonthly basis for review by FRA's Rail Integrity Office. This report would include the in-service rail failure ratios per 49 CFR part 213, a report on the miles tested, and the frequency of testing.

UP currently tests the Marysville Subdivision every 30 days and the Baird Subdivision approximately every 90-120 days. UP plans to increase the frequency on the Marysville Subdivision to every 15-20 days and the frequency on the Baird Subdivision to approximately every 60 days with this process. The nonstop continuous high-speed rail test vehicle will be a self-propelled ultrasonic/induction rail flaw detection vehicle operating at test speeds of up to 25 mph. Upon completion of each daily run, data will be analyzed offline, at a remote location, by technical experts with experience on another Class I railroad with this process. The offline analysts will categorize and prioritize suspect locations for posttest field verifications and hand tests. Field verification will be conducted within an FRA-prescribed timeframe by UP qualified/certified rail test professionals with recordable field validation equipment based on Global Positioning System locations. All suspect locations will be validated for 30 feet on either side of the suspect GPS locations. Remedial actions will be applied based on the verification results per 49 CFR 213.113, Defective Rails for confirmed rail defect locations.

UP believes nonstop continuous rail testing will provide the capability to test track more quickly and frequently, and minimize the risk of rail service failures.

A copy of the petition, as well as any written communications concerning the petition, is available for review online at www.regulations.gov and in person at the U.S. Department of Transportation's (DOT) Docket Operations Facility, 1200 New Jersey Avenue, SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 23, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on January 28, 2015.
Ron Hynes,
Director, Office of Technical Oversight.

[FR Doc. 2015-02161 Filed 2-3-15; 8:45 am]

BILLING CODE 4910-06-P